ENVIRONMENTAL PROTECTION AGENCY

[EPA-HQ-OW-2002-0059; FRL 9940-52-OEI]

Information Collection Request Submitted to OMB for Review and Approval; Comment Request; Safe Drinking Water Act State Revolving Fund Program

AGENCY: Environmental Protection Agency (EPA).

ACTION: Notice.

SUMMARY: The U.S. Environmental Protection Agency (EPA) has submitted an information collection request (ICR), “Safe Drinking Water Act State Revolving Fund Program” (EPA ICR No. 1803.07, OMB Control No. 2040-0185) to the Office of Management and Budget (OMB) for review and approval in accordance with the Paperwork Reduction Act (PRA, 44 U.S.C. 3501 et seq.). This is a proposed extension of the ICR, which is currently approved through December 31, 2015. Public comments were previously requested via the Federal Register (80 FR 57605) on September 24, 2015, during a 60-day comment period. This notice allows for an additional 30 days for public comments. A fuller description of the ICR is given in this renewal notice, including its estimated burden and cost to the public. An Agency may not conduct or sponsor and a person is not required to respond to a collection of information unless it displays a currently valid OMB control number.

DATES: Additional comments may be submitted on or before January 27, 2016.

ADDRESSES: Submit your comments, referencing Docket ID Number EPA-HQ-OW-2002-0059, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Nick Chamberlain, Drinking Water Protection Division, Office of Ground Water and Drinking Water, 4606M, Environmental Protection Agency, 1200 Pennsylvania Ave. NW., Washington, DC 20460; telephone number: 202-564-1871; email address: Chamberlain.Nick@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit www.epa.gov/dockets.

Abstract: The Safe Drinking Water Act (SDWA) Amendments of 1996 (Pub. L. 104-182) authorized the creation of the Drinking Water State Revolving Fund (DWSRF; the Fund) program in each state and Puerto Rico to assist public water systems to finance the costs of infrastructure needed to achieve or maintain compliance with SDWA requirements and to protect public health. Section 1452 authorizes the Administrator of the EPA to award capitalization grants to the states and Puerto Rico which, in turn, provide low-cost loans and other types of assistance to eligible drinking water systems. States can also reserve a portion of their grants to conduct various set-aside activities. The information collection activities will occur primarily at the program level through the (1) Capitalization Grant Application and Agreement/State Intended Use Plan; (2) Biennial Report; (3) Annual Audit; (4) Assistance Application Review; and (5) DWSRF National Information Management System and the Projects & Benefits Reporting System.

Form Numbers: None.

Respondents/affected entities: Entities affected by this action are states and local governments.

Respondent's obligation to respond: Required to obtain or retain a benefit per the Safe Drinking Water Act Section 1452(g)(1).

Estimated number of respondents: 1,035 (total).

Frequency of response: Varies by requirement (i.e., quarterly, semi-annually and annually).

Total estimated burden: 88,881 hours (average per year). Burden is defined at 5 CFR 1320.03(b).

Total estimated cost: $4,884,591 (average per year), which is solely for labor cost.

Changes in the Estimates: There is a net decrease of 180,916 hours in annual respondent burden hours from the previous ICR. This is partially attributable to the previous ICR's inclusion of burden hours from the American Recovery and Reinvestment Act (ARRA) signed by the President on February 17, 2009. ARRA's additional $2 billion in funding for assistance agreements resulted in approximately twice the normal number of applications for assistance in 2009. There is also a net decrease in local respondent burden hours from the previous ICR, which included application preparation and submission burden hours for localities. This is a state need/requirement, not federal, and thus it is excluded from this ICR. Some of the decrease is offset by this ICR's inclusion of local burden for public awareness activities.

Courtney Kerwin,
Acting Director, Collection Strategies Division.

[FR Doc. 2015-32614 Filed 12-24-15; 8:45 am]

BILLING CODE 6560-50-P